DEPARTMENT OF HEALTH AND HUMAN SERVICES

Centers for Disease Control and Prevention

[30-Day-12-11IR]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC 20503 or by fax to (202) 395-5806. Written comments should be received within 30 days of this notice.

Proposed Project

Evaluation of Core Violence and Injury Prevention Program (Core VIPP)—New—National Center for Injury Prevention and Control, Centers for Disease Control and Prevention (CDC).

Background and Brief Description

Injuries and their consequences, including unintentional and violence-related injuries, are the leading cause of death for the first four decades of life, regardless of gender, race, or socioeconomic status. More than 179,000 individuals in the United States die each year as a result of unintentional injuries and violence, more than 29 million others suffer non-fatal injuries and over one-third of all emergency department (ED) visits each year are due to injuries. In 2000, injuries and violence ultimately cost the United States $406 billion, with over $80 billion in medical costs and the remainder lost in productivity.¹ Most events that result in injury and/or death from injury could be prevented if evidence-based public health strategies, practices, and policies were used throughout the nation.

CDC's National Center for Injury Prevention and Control (NCIPC) is committed to working with their partners to promote action that reduces injuries, violence, and disabilities by providing leadership in identifying priorities, promoting tools, and monitoring effectiveness of injury and violence prevention and to promote effective strategies for the prevention of injury and violence, and their consequences. One tool NCIPC will use to accomplish this is the Core Violence and Injury Prevention Program (VIPP). This program funds state health departments to build effective delivery systems for dissemination, implementation and evaluation of evidence based/best practice programs and policies.

Core VIPP also focuses on the integration of unintentional injury and violence prevention. Unintentional injury and violence prevention have many common risk and protective factors for children. In an endeavor to promote efforts to prevent child maltreatment, a NCIPC priority, CDC is collaborating with the Health Resources and Services Administration (HRSA) regarding the new Affordable Care Act (ACA) Maternal, Infant, and Early Childhood Home Visiting Program. The state health departments funded by the Core VIPP will be required to partner with the state agency responsible for administration of the State Home Visiting program.

CDC requests OMB approval to collect program evaluation data for Core VIPP over a three-year period. Specifically, CDC will use the Safe States Alliance State of the States (SOTS) survey as the template for annual evaluation surveys and an annual follow-up telephone interview. Both the SOTS and the telephone interviews will be conducted with state Violence and Injury Prevention programs directors and staff. This approach provides a means to collect standardized, systematic data from the Core VIPP grantees for program evaluation and improvement. Topics for data collection include: Program evaluation, state injury and violence prevention program (IVP) infrastructure, IVP strategies and partners, policy strategies, injury surveillance, quality of surveillance, and regional network leaders. Part of the requirement for receiving Core VIPP funding is for State Injury and Violence Programs (SIVPs) to develop and maintain their own evaluation capacity and data systems; thus, this data collection is not expected to entail significant burdens to respondents.

Estimates of burden for the survey are based on previous experience with evaluation data collections conducted by the evaluation staff. The State of the States (SOTS) web-based survey assessment will be completed by 28 Core Funded State Health Departments (SHDs) and 22 Non-Funded SHDs, taking 3 hours to complete. The SOTS Financial Module will also be completed by the 28 Core Funded and 22 Non-Funded SHD, taking 1 hour to complete. The telephone interviews will take 1.5 hours to conclude and will be completed by the 28 Core Funded States. We expect that each of the 28 Core Funded states will complete three web-based surveys and three telephone interviews during the first three years of Core funding. It is anticipated that up to 22 unfunded states will complete three web-based surveys during the first three years of Core funding.

There are no costs to respondents other than their time.

The total estimated annual burden hours are 242.

Estimated Annualized Burden Hours
Type of respondent | Form name | Number of respondents | Number of responses per respondent | Average burden per response (in hours)
Core VIPP funded SVIP directors and staff | State of the States Survey (SOTS) | 28 | 1 | 3
Core VIPP funded SVIP directors and staff | SOTS Financial Module | 28 | 1 | 1
Core VIPP funded VIP directors and staff | Telephone interview | 28 | 1 | 1.5
Non-funded SHD Injury Program management and staff | SOTS | 22 | 1 | 3
Non-funded SHD Injury Program management and staff | SOTS Financial Module | 22 | 1 | 1

Dated: November 22, 2011.
Daniel Holcomb,
Reports Clearance Officer, Centers for Disease Control and Prevention.

[FR Doc. 2011-30833 Filed 11-29-11; 8:45 am]

BILLING CODE 4163-18-P